DEPARTMENT OF HEALTH AND HUMAN SERVICES

Health Resources and Services Administration

Agency Information Collection Activities: Proposed Collection Comment Request

In compliance with the requirement for opportunity for public comment on proposed data collection projects (section 3506(c)(2)(A) Title 44, United States Code (U.S.C.), as amended by the Paperwork Reduction Act of 1995, Pub. L. 104-13), the Health Resources and Services Administration (HRSA) will publish periodic summaries of proposed projects being developed for submission to the Office of Management and Budget (OMB) under the Paperwork Reduction Act of 1995. To request more information on the proposed project or to obtain a copy of the data collection plans, call the HRSA Reports Clearance Officer at (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Data Collection Tool for State Offices of Rural Health Grant Program: (OMB Number: 0915-0322)—Extension

The mission of the Office of Rural Health Policy (ORHP) is to sustain and improve access to quality care services for rural communities. In its authorizing language (Sec. 711 of the Social Security Act [42 U.S.C. 912]), Congress charged ORHP with administering grants, cooperative agreements, and contracts to provide technical assistance and other activities as necessary to support activities related to improving health care in rural areas.

In accordance with the Public Health Service Act, section 338J, 42 U.S.C. 254r, the Health Resources and Services Administration proposes to revise the State Offices of Rural Health Grant Program—Guidance and Forms for the Application. The guidance is used annually by 50 States in writing applications for Grants under the State Offices of Rural Health Grant Program (SORH) of the Public Health Service Act, and in preparing the required report.

ORHP seeks to expand the information gathered from grantees on their efforts to provide technical assistance to clients within their State. SORH grantees would be required to submit a Technical Assistance Report that includes: (1) The total number of technical assistance encounters provided directly by the grantee; and, (2) the total number of unduplicated clients that received direct technical assistance from the grantee. Submission of the Technical Assistance Report would be done via e-mail to ORHP no later than 30 days after the end of each 12-month budget period.

The estimated average annual burden is as follows:

Form | Number of respondents | Responses per respondent | Burden hours per response | Total burden hours
Technical Assistance Report | 50 | 1 | 12.5 | 625
Total | 50 |  |  | 625

E-mail comments to paperwork@hrsa.gov or mail the HRSA Reports Clearance Officer, Room 10-33, Parklawn Building, 5600 Fishers Lane, Rockville, MD 20857. Written comments should be received within 60 days of this notice.

Dated: December 17, 2009.
Alexandra Huttinger,
Director, Division of Policy Review and Coordination.

[FR Doc. E9-30538 Filed 12-22-09; 8:45 am]

BILLING CODE 4165-15-P